DEPARTMENT OF HOMELAND SECURITY

Coast Guard

33 CFR Part 150

[USCG-1998-3884]

RIN 1625-AA20 (formerly RIN 2115-AF63)

Deepwater Ports

AGENCY: Coast Guard, DHS.

ACTION: Correcting amendments.

SUMMARY: This document corrects the temporary interim rule with request for comments (FR Doc. 03-32204) published in the Federal Register of January 6, 2004 (69 FR 724). The temporary interim rule contained provisions relating to deepwater ports that may remain in effect until October 2006.

DATES: Effective on August 30, 2004.

FOR FURTHER INFORMATION CONTACT: If you have questions on this correction, call Lieutenant Commander Kevin Tone, Vessel and Facility Operating Standards Division (G-MSO-2), Coast Guard, telephone 202-267-0226.

SUPPLEMENTARY INFORMATION:

Background

The temporary interim rule that is the subject of this correction updated Coast Guard regulations governing the license process, the design, construction, and equipment, and the operation of deepwater ports, which are used for the transportation, storage, and further handling of oil or natural gas. The temporary interim rule inadvertently omitted provisions describing the location of the safety zone for the Louisiana Offshore Oil Port (LOOP), as well as areas to be avoided and the anchorage area within the safety zone. Those provisions were first promulgated in 1980 and last updated in 1994; prior to the temporary interim rule they appeared in Annex A to Appendix A, part 150 of the Code of Federal Regulations. The Coast Guard intended no substantive change in the LOOP safety zone requirements, but for stylistic consistency and to clarify their regulatory nature we did intend to set them out in a regulatory section rather than in an annex.

Need for Correction

As published, the temporary interim rule omits text. This omission may prove to be misleading and needs to be corrected.

List of Subjects in 33 CFR Part 150

Harbors, Marine safety, Navigation (water), Occupational safety and health, Oil pollution, Reporting and recordkeeping requirements.

Accordingly, 33 CFR part 150 is corrected by making the following correcting amendment:

PART 150—DEEPWATER PORTS: OPERATIONS

1. The authority citation for part 150 continues to read as follows:

Authority: 33 U.S.C. 1231, 1321(j)(1)(C), (j)(5), (j)(6), (m)(2); 33 U.S.C. 1509(a); E.O. 12777, sec. 2; E.O. 13286, sec. 34, 68 FR 10619; Department of Homeland Security Delegation No. 0170.1(70), (73), (75), (80).

2. Add § 150.940 to read as follows:

§ 150.940 Safety zones for specific deepwater ports.

(a) Louisiana Offshore Oil Port (LOOP):

(1) The location of the safety zone for LOOP is as described in Table 150.940(A):

Table 150.940(A).—Safety Zone for Loop, Gulf of Mexico
Latitude N | Longitude W
(i) Starting at:
28°55′23″ | 90°00′37″
(ii) A rhumb line to:
28°53′50″ | 90°04′07″
(iii) Then an arc with a 4,465 meter (4,883 yard) radius centered at the port's pumping platform complex:
28°53′06″ | 90°01′30″
(iv) To a point:
28°51′07″ | 90°03′06″
(v) Then a rhumb line to:
28°50′09″ | 90°02′24″
(vi) Then a rhumb line to:
28°49′05″ | 89°55′54″
(vii) Then a rhumb line to:
28°48′36″ | 89°55′00″
(viii) Then a rhumb line to:
28°52′04″ | 89°52′42″
(ix) Then a rhumb line to:
28°53′10″ | 89°53′42″
(x) Then a rhumb line to:
28°54′52″ | 89°57′00″
(xi) Then a rhumb line to:
28°54′52″ | 89°59′36″
(xii) Then an arc with a 4,465 meter (4,883 yard) radius centered again at the port's pumping platform complex;
(xiii) To the point of starting:
28°55′23″ | 90°00′37″

(2) The areas to be avoided within the safety zone are:

(i) The area encompassed within a circle having a 600 meter radius around the port's pumping platform complex and centered at:

Latitude N | Longitude W
28°53′06″ | 90°−1′30″

(ii) The six areas encompassed within a circle having a 500 meter radius around each single point mooring (SPM) at the port and centered at:

Latitude N | Longitude W
28°54′12″ | 90°00′37″
28°53′16″ | 89°59′59″
28°52′15″ | 90°00′19″
28°51′45″ | 90°01′25″
28°52′08″ | 90°02′33″
28°53′07″ | 90°03′02″

(3) The anchorage area within the safety zone is an area enclosed by the rhumb lines joining points at:

Latitude N | Longitude W
28°52′21″ | 89°57′47″
28°54′05″ | 89°56′38″
28°52′04″ | 89°52′42″
28°50′20″ | 89°53′51″
28°52′21″ | 89°57′47″

Dated: August 20, 2004.
Joseph J. Angelo,
Director of Standards, Marine Safety, Security, and Environmental Protection, Coast Guard.

[FR Doc. 04-19731 Filed 8-27-04; 8:45 am]

BILLING CODE 4910-15-P